DEPARTMENT OF COMMERCE

National Oceanic and Atmospheric Administration

Updated Implementation Timeline for the Modernized National Spatial Reference System (NSRS)

AGENCY: National Geodetic Survey (NGS), National Ocean Service, National Oceanic and Atmospheric Administration (NOAA), Department of Commerce.

ACTION: Notice of upcoming changes.

SUMMARY: The National Geodetic Survey (NGS) is in the process of modernizing the National Spatial Reference System (NSRS). NGS plans to replace all three North American Datum of 1983 (NAD 83) frames and all vertical datums of the NSRS, including the North American Vertical Datum of 1988 (NAVD 88), with four new terrestrial reference frames and one new geopotential datum to which all geodetic coordinates and derived coordinates within the NSRS will be referenced. NGS is releasing key details of the transition to the new datums in the modernized NSRS to help users and interested parties prepare for the coming change.

DATES: The modernization of the NSRS is scheduled to occur in 2025 or 2026. NGS intends to release associated tools and services within five years of the modernization.

ADDRESSES: National Geodetic Survey, 1315 East-West Highway, Silver Spring, MD 20910. geodesy.noaa.gov; beta.ngs.noaa.gov; https://geodesy.noaa.gov/datums/newdatums/index.shtml.

FOR FURTHER INFORMATION CONTACT: Dr. Dru Smith, NSRS Modernization Manager, NOAA Office of National Geodetic Survey, 1315 East-West Highway, Silver Spring, MD 20910, or dru.smith@noaa.gov, (240) 533-9654.

SUPPLEMENTARY INFORMATION: The modernization of the NSRS is designed to improve the accuracy of Federal geodetic control. For over 200 years, NGS and its predecessor agencies (including the Survey of the Coast, which was founded in 1807), have been the stewards of the NSRS—the geodetic infrastructure of the United States. NGS strives to modernize the NSRS as technology and scientific knowledge advance. In 2020, NGS issued a Federal Register Notice (FRN) announcing that the completion and rollout of the NSRS modernization was expected to occur between 2022 and 2025 (85 FR 44864). This notice announces the updated projected timeline for the latest modernization effort.

The last significant modernization of the NSRS resulted in the creation of the original North American Datum of 1983 (54 FR 25318) and the North American Vertical Datum of 1988 (58 FR 34245). These datums were defined before the widespread use of the Global Positioning System (GPS) and Global Navigation Satellite System (GNSS), and were determined using classical (i.e., terrestrial, line-of-sight) geodetic measurement techniques. Over the years, minor corrections to and expansion of the NSRS occurred; however, no significant update was possible until now. Through modern geodetic surveying technology, extensive data collection initiatives, and advances in scientific knowledge, a more accurate, modern NSRS is possible. The new frames and datum shall be known as the “North American Terrestrial Reference Frame of 2022,” the “Pacific Terrestrial Reference Frame of 2022,” the “Caribbean Terrestrial Reference Frame of 2022,” the “Mariana Terrestrial Reference Frame of 2022,” and the “North American-Pacific Geopotential Datum of 2022,” and may be referred to as “NATRF2022,” “PATRF2022,” “CATRF2022,” “MATRF2022,” and “NAPGD2022,” respectively. The new reference frames will rely primarily on GNSSs, such as the GPS, as well as on a gravimetric geoid model resulting from the Gravity for the Redefinition of the American Vertical Datum (GRAV-D) Project. The modernized NSRS will be easier to access and maintain than the existing NSRS, which relies on physical survey marks that deteriorate over time. The modernized NSRS will define new, more accurate, and more regularly updated geodetic coordinates (i.e., latitude, longitude, ellipsoid height, orthometric height, acceleration of gravity, deflections of the vertical, and others). Coordinates will be estimated within these frames and datum at regular reference epochs from all historic survey data available to NGS, beginning with 2020.00.

The following details outline the process for the rollout of the modernized NSRS:

• NGS plans to roll out components of the modernized NSRS in 2025 or 2026. As each component is released at beta.ngs.noaa.gov, it can be publicly tested with feedback provided to NGS. The testing will continue for at least six months after the final component is released on beta.ngs.noaa.gov.

• While the modernized NSRS is being rolled out and tested, the current NSRS will remain the official NSRS of the United States. The official NSRS (i.e., currently NAD 83, NAVD 88, etc.) may be found at geodesy.noaa.gov. Only one major improvement to the current NSRS is expected during this time: ITRF2020 will be integrated in all products and services.

• Once testing is complete, and all modernized NSRS components appear to be stable and correct, the Federal Geodetic Control Subcommittee (FGCS) will be asked to vote to approve the modernized NSRS (likely in 2026). If FGCS approves the modernized NSRS, NGS will publish an FRN announcing the approval of the modernized NSRS and begin a several-month process of transitioning all modernized NSRS components to the official website at geodesy.noaa.gov. During this transition, the beta website may be wiped of submitted data and no further submissions to the NGS IDB (the repository for the current NSRS) will be allowed.

Additional information regarding the modernization of the NSRS may be found at https://geodesy.noaa.gov/datums/newdatums/index.shtml.

Authority: 33 U.S.C. 883a et seq.

Shachak Pe'eri,
Acting Director, Office of National Geodetic Survey, National Ocean Service, National Oceanic and Atmospheric Administration.

[FR Doc. 2024-23347 Filed 10-8-24; 8:45 am]

BILLING CODE 3510-JE-P